DEPARTMENT OF TRANSPORTATION

Federal Railroad Administration

Notice of Funding Opportunity for Railroad Trespassing Suicide Prevention Grant Program

AGENCY: Federal Railroad Administration (FRA), Department of Transportation (DOT or Department).

ACTION: Notice of Funding Opportunity (notice or NOFO).

SUMMARY: This notice details the application requirements and procedures to obtain funding for eligible projects under the Railroad Trespassing Suicide Prevention Grant Program. Railroad Trespassing Suicide Prevention Grant Program funding totaling $293,000 is provided in this NOFO by the 2019 and 2020 consolidated appropriations acts, which require the FRA to implement a railroad trespasser prevention strategy. This program is part of the FRA's implementation of railroad trespass prevention efforts. The opportunities described in this notice are available under Catalog of Federal Domestic Assistance number 20.301, “Rail Safety Grants.”

DATES: Applications for funding under this solicitation are due no later than 5:00 p.m. Eastern Time (ET), on August 10, 2020. Applications for funding received after 5:00 p.m. ET on August 10, 2020 will not be considered for funding. See Section D of this notice for additional information on the application process.

ADDRESSES: Applications must be submitted via www.Grants.gov. Only applicants who comply with all submission requirements described in this notice and submit applications through Grants.gov will be eligible for award. For any supporting application materials that an applicant is unable to submit via Grants.gov, an applicant may submit an original and two (2) copies to Matthew Lorah, Office of the Chief Financial Officer, Federal Railroad Administration, 1200 New Jersey Avenue SE, Room W36-103, Washington, DC 20590; email: matthew.lorah@dot.gov; phone: 202-493-6186. However, due to delays caused by enhanced screening of mail delivered via the U.S. Postal Service, applicants are advised to use other means of conveyance (such as courier service) to assure timely receipt of materials.

FOR FURTHER INFORMATION CONTACT: For further information regarding this program, please contact Michail Grizkewitsch, Office of Railroad Safety, Federal Railroad Administration, 1200 New Jersey Avenue SE, Room W33-446, Washington, DC 20590; email: Michail.grizkewitsch@dot.gov; phone: (202) 493-1370. Application submission and processing questions should be addressed to Matthew Lorah, Office of the Chief Financial Officer, Federal Railroad Administration, 1200 New Jersey Avenue SE, Room W36-103, Washington, DC 20590; email: matthew.lorah@dot.gov; phone: 202-493-6186.

SUPPLEMENTARY INFORMATION:

Notice to applicants: FRA recommends that applicants read this notice in its entirety prior to preparing application materials. Definitions of key terms used throughout the NOFO are provided in Section A(2) below. These key terms are capitalized throughout the NOFO. There are several administrative prerequisites and eligibility requirements described herein with which applicants must comply. Additionally, applicants should note that the required Project Narrative component of the application package may not exceed 25 pages in length.

Table of Contents

A. Program Description

B. Federal Award Information

C. Eligibility Information

D. Application and Submission Information

E. Application Review Information

F. Federal Award Administration Information

G. Federal Awarding Agency Contacts

H. Other Information

A. Program Description

1. Overview

An average of 289 individuals commit suicide each year on the U.S. rail system. This represents nearly a third of the fatalities related to railroad operations in the U.S. Grade crossing safety and trespass prevention are incorrectly considered by some as challenges to be addressed by Railroad Carriers alone, when in fact the prevention of grade crossing and trespasser fatalities is most effectively addressed through thoughtful and consistent collaboration between all stakeholders, including the Railroad Carriers, communities, law enforcement, educators, and mental health organizations. Funding under this NOFO is intended to facilitate this collaboration, specifically as pertains to suicide prevention.

Trespassing is the leading cause of rail-related casualties (injuries and fatalities) in the U.S. and many of these trespass deaths are the result of an intentional act of suicide. The increasing number of fatalities resulting from trespassing prompted Congress to direct FRA to create a National Trespass Prevention Strategy. In its strategy, FRA identified approaches to reduce the occurrence of trespassing, including collaboration with stakeholders to address the issue of suicide.

Suicides related to railroad operations represent a small, but continually increasing, percentage of the total suicides that occur in the U.S. each year. Funding under this NOFO is intended to identify and fund partnerships between organizations focused on suicide prevention and/or mental health assistance and Railroad Carriers to develop and implement a targeted Outreach Campaign (as defined below) to reduce the number of railroad-related suicides.

The purpose of this notice is to solicit applications for the competitive Railroad Trespassing Suicide Prevention Grant Program funding provided in the Consolidated Appropriations Act, 2019, Div. G, Title I, Public Law 116-6 and Consolidated Appropriations Act, 2020, Div. H, Title I, Public Law 116-94. Grants ¹ under this NOFO are authorized in 49 U.S.C. 103(i), pursuant to FRA's implementation of 49 U.S.C. 20151(b).

¹ The term “grant” used throughout this document is intended to reference funding awarded through a grant agreement, as well as funding awarded through a cooperative agreement.

Rural transportation networks play a vital role in supporting our national economic vitality. Addressing the deteriorating conditions and disproportionately high fatality rates on our rural transportation infrastructure is of critical interest to the Department, as rural transportation networks face unique challenges in safety, infrastructure condition, and passenger and freight usage. Consistent with the R.O.U.T.E.S. Initiative, the Department will consider how projects would address the challenges faced by Rural Areas.

2. Definitions of Key Terms

a. “Railroad Carrier” means a person providing railroad transportation. For the purpose of this definition, “railroad” is defined under 49 U.S.C. 20102(2).

b. “Outreach Campaign” means any coordinated communication and assistance effort focused on a specific population, in this case individuals suffering from mental health issues who may be contemplating suicide.

c. “Rural Area” means any area not in an urbanized area as defined by the Census Bureau. The Census Bureau defines Urbanized Area (UA) as an area with a population of 50,000 or more people. Updated lists of UAs as defined by the Census Bureau are available on the Census Bureau website at http://www2.census.gov/geo/maps/dc10map/UAUC_RefMap/ua/.

B. Federal Award Information

1. Available Award Amount

The total funding available for awards under this NOFO is $293,000. Should additional funds become available after the release of this NOFO, FRA may elect to award such additional funds to applications received under this NOFO not to exceed $100,000 per project. Any selection and award under this NOFO is subject to the availability of appropriated funds.

2. Award Size

The maximum dollar threshold for awards is $100,000 per project. There is no predetermined minimum dollar threshold, and FRA may choose to select one or more eligible projects for funding. FRA may not be able to award grants to all eligible applications, nor even to all applications that meet or exceed the stated evaluation criteria (see Section E, Application Review Information).

3. Award Type

FRA will make awards for projects selected under this notice through grant agreements. Grant agreements are used when FRA does not expect to have substantial Federal involvement in carrying out the funded activity. The funding provided under this NOFO will be made available to grantees on a reimbursable basis. Applicants must certify that their expenditures are allowable, allocable, reasonable, and necessary to the approved project before seeking reimbursement from FRA. See an example of standard terms and conditions for FRA grant awards at https://railroads.dot.gov/elibrary/notice-grant-award-example. This template is subject to revision.

C. Eligibility Information

This section of the notice explains the requirements for submitting an eligible grant application. Applications that do not meet the requirements in this section will be considered ineligible for funding. Instructions for conveying eligibility information to FRA are detailed in Section D of this NOFO.

1. Eligible Applicants

The following entities are eligible applicants permitted under this notice. See Section C(3). Applicants for this grant must be an organization in the U.S. that focus on suicide prevention and/or mental health assistance that can implement an Outreach Campaign for reducing suicide involving railroad trespassing or be a Railroad Carrier interested in starting or expanding efforts to prevent trespass suicide. Ideally, an organization without direct rail domain knowledge would coordinate with a particular Railroad Carrier, as shown through a letter of support. A similar letter of support from a suicide prevention and/or mental health assistance focused organization would be ideal should a Railroad Carrier apply for funding.

2. Cost Sharing or Matching

Neither cost sharing nor matching is a requirement for this grant program. The funds provided under this NOFO are available only for eligible project costs of eligible Railroad Trespassing Suicide Prevention Grant Program projects. The estimated total cost of a project must be based on the best available information.

3. Project Eligibility

Projects eligible for funding under this NOFO implement a proposed Outreach Campaign for reducing suicides that involve railroad trespassing. The Outreach Campaign may involve training staff to identify individuals at risk and intervene, raising awareness of services via signage or public awareness campaigns, or implementing other strategies. Projects must be specifically tailored to directly reduce railroad suicide incidents. At least 1 mile of FRA-regulated railroad track must be within the boundaries of the planned outreach activities.

Funding under this NOFO may not be used for costs that are included in, or used to meet cost sharing or matching requirements of, any other Federally-financed award or program.

FRA will consider a project to be in a Rural Area if all or the majority of the project (determined by geographic location(s) where the majority of the project funds will be spent) is located in a Rural Area. However, in the event FRA elects to fund a component of the project, then FRA will reexamine whether the project is in a Rural Area.

D. Application and Submission Information

Required documents for the application are outlined in the following paragraphs. Applicants must complete and submit all components of the application. See Section D(2) for the application checklist. FRA welcomes the submission of additional relevant supporting documentation, such as letters of support from partnering organizations and references to previous work on suicide prevention Outreach Campaigns that will not count against the Project Narrative 25-page limit.

1. Address To Request Application Package

Applicants must submit all application materials through http://www.Grants.gov no later than 5:00 p.m. ET, on August 10, 2020. Applicants are strongly encouraged to apply early to ensure that all materials are received before the application deadline. General information for submitting applications through Grants.gov can be found at: https://www.fra.dot.gov/Page/P0270. FRA is committed to ensuring that information is available in appropriate alternative formats to meet the requirements of persons who have a disability. If you require an alternative version of files provided, please contact Matthew Lorah, Office of the Chief Financial Officer, Federal Railroad Administration, 1200 New Jersey Avenue SE, Room W36-103, Washington, DC 20590; email: matthew.lorah@dot.gov; phone: 202-493-6186.

2. Content and Form of Application Submission

FRA strongly advises applicants to read this section carefully. Applicants must submit all required information and components of the application package to be considered for funding. Required documents for an application package are outlined in the checklist below.

• Project Narrative (see D.2.a)

• Statement of Work (see D.2.b.i)

• SF424—Application for Federal Assistance

• 424A—Budget Information for Non-Construction projects

• SF 424B—Assurances for Non-Construction projects

• FRA's Additional Assurances and Certifications

• SF LLL—Disclosure of Lobbying Activities

a. Project Narrative

This section describes the minimum content required in the Project Narrative of the grant application. The Project Narrative must follow the basic outline below to address the program requirements and assist evaluators in locating relevant information.

I. Cover Page | See D.2.a.i
II. Project Summary | See D.2.a.ii
III. Applicant Eligibility Criteria | See D.2.a.iii
IV. Project Eligibility Criteria | See D.2.a.iv
V. Detailed Project Description | See D.2.a.v
VI. Evaluation and Selection Criteria | See D.2.a.vi
VII. Project Implementation and Management | See D.2.a.vii

The above content must be provided in a narrative statement submitted by the applicant. The Project Narrative may not exceed 25 pages in length (excluding cover pages, table of contents, and supporting documentation.) FRA will not review or consider Project Narratives beyond the 25-page limitation. If possible, applicants should submit supporting documents via website links rather than hard copies. If supporting documents are submitted, applicants must clearly identify the page number of the relevant portion of the supporting documentation in the Project Narrative. The Project Narrative must adhere to the following outline.

i. Cover Page: Include a cover page that lists the following elements in either a table or formatted list:

Project Title

Applicant

Total project cost

Amount of Federal funding requested

City(ies), State(s) where the project is located

Congressional district(s) where the project is located

ii. Project Summary: Provide a brief 4-6 sentence summary of the proposed Outreach Campaign. Include challenges and summarize the intended outcomes and anticipated benefits that will result from the proposed project.

iii. Applicant Eligibility Criteria: Explain how the applicant meets the applicant eligibility criteria outlined in Section C(1) of this notice.

iv. Project Eligibility Criteria: Explain how the project meets the project eligibility criteria in Section C(3) of this notice.

v. Detailed Project Description: Include a detailed project description of the suicide prevention Outreach Campaign proposed for implementation that expands upon the brief summary required above. This detailed description should provide, at a minimum: How the proposed campaign will be implemented along with additional background on the challenges the project aims to address, the expected users, beneficiaries, and outcomes of the project, and any other information the applicant deems necessary to justify the proposed project. Describe how and to what extent rail trespass suicide is expected to be reduced, including proposed measures to assess this reduction. Specify the relevance or relationship of the proposed project to other investments, if applicable, as well as the changes that are anticipated to result from the project. Provide a detailed summary of all related outreach completed to date, if applicable. Include previous accomplishments and funding history including Federal financial assistance, and a chronology of key documents produced.

If applicable, explain how the project will benefit communities in Rural Areas. If all or a majority of a project is located in a Rural Area, identify the Rural Area(s) and estimated percentage of project costs that will be spent in the Rural Area.

vi. Evaluation and Selection Criteria: Include a thorough discussion of how the proposed project meets all of the evaluation and selection criteria, as outlined in Section E of this notice. If an application does not sufficiently address the evaluation criteria and the selection criteria, it is unlikely to be a competitive application.

vii. Project Implementation and Management: Describe proposed project implementation and project management arrangements for the project, including the activities proposed in this application. Include descriptions of the expected arrangements for project contracting, contract oversight, risk management, and conformance to Federal requirements for project progress reporting (see https://www.fra.dot.gov/Page/P0274). Describe past experience in managing and overseeing similar projects.

viii. Procurement System. A statement that the lead applicant has a system for procuring property and services under a Federal award provided under this NOFO that supports the provisions in 2 CFR part 200 Subpart D-Procurement Standards at 2 CFR 200.317-326 and 2 CFR 1201.317.

ix. Applicant Statement. A statement indicating whether the applicant or any of its principals:

(A) is presently suspended, debarred, voluntarily excluded, or disqualified;

(B) has been convicted within the preceding 3 years of any of the offenses listed in 2 CFR 180.800(a); or had a civil judgment rendered against the organization or the individual for one of those offenses within that time period;

(C) is presently indicted for, or otherwise criminally or civilly charged by a governmental entity (Federal, state or local) with, commission of any of the offenses listed in 2 CFR 180.800(a); or,

(D) has had one or more public transactions (Federal, state, or local) terminated within the preceding 3 years for cause or default (including material failure to comply).

b. Additional Application Elements

Applicants must include the following documents in the application package:

i. A Statement of Work (SOW) addressing the scope, schedule, and budget for the proposed project if it were selected for award. The SOW must contain sufficient detail so FRA, and the applicant, can understand the expected outcomes of the proposed work to be performed and can monitor progress toward completing project tasks and deliverables during a prospective grant's period of performance. Applicants must use FRA's standard SOW, schedule, and budget templates to be considered for award. The templates are located at: https://www.fra.dot.gov/Page/P0325. When preparing the budget, the total cost of a project must be based on the best available information as indicated in cited references.

ii. SF 424—Application for Federal Assistance;

iii. SF 424A—Budget Information for Non-Construction;

iv. SF 424B—Assurances for Non-Construction;

v. FRA's Additional Assurances and Certifications; and

vi. SF LLL—Disclosure of Lobbying Activities.

Forms needed for the electronic application process are at www.grants.gov.

c. Post-Selection Requirements

See Section F(2) for post-selection requirements.

3. Unique Entity Identifier and System for Award Management (SAM)

To apply for funding through Grants.gov, applicants must be properly registered in SAM before submitting an application, provide a valid unique entity identifier in its application, and continue to maintain an active SAM registration as described in detail below. Complete instructions on how to register and submit an application can be found at Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension.

FRA may not make a grant award to an applicant until the applicant has complied with all applicable Data Universal Numbering System (DUNS) and SAM requirements, and if an applicant has not fully complied with the requirements by the time the Federal awarding agency is ready to make a Federal award, the Federal awarding agency may determine that the applicant is not qualified to receive a Federal award and use that determination as a basis for making a Federal award to another applicant. (Please note that if a Dun & Bradstreet DUNS number must be obtained or renewed, this may take a significant amount of time to complete.) Late applications that are the result of a failure to register or comply with Grants.gov applicant requirements in a timely manner will not be considered. If an applicant has not fully complied with the requirements by the submission deadline, the application will not be considered. To submit an application through Grants.gov, applicants must:

a. Obtain a DUNS Number

A DUNS number is required for Grants.gov registration. The Office of Management and Budget requires that all businesses and nonprofit applicants for Federal funds include a DUNS number in their applications for a new award or renewal of an existing award. A DUNS number is a unique nine-digit sequence recognized as the universal standard for the government in identifying and keeping track of entities receiving Federal funds. The identifier is used for tracking purposes and to validate address and point of contact information for Federal assistance applicants, recipients, and subrecipients. The DUNS number will be used throughout the grant life cycle. Obtaining a DUNS number is a free, one-time activity. Applicants may obtain a DUNS number by calling 1-866-705-5711 or by applying online at http://www.dnb.com/us.

b. Register With the SAM at www.SAM.gov

All applicants for Federal financial assistance must maintain current registrations in the SAM database. An applicant must be registered in SAM to successfully register in Grants.gov. The SAM database is the repository for standard information about Federal financial assistance applicants, recipients, and subrecipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award.

Information about SAM registration procedures is available at www.sam.gov.

c. Create a Grants.gov Username and Password

Applicants must complete an Authorized Organization Representative (AOR) profile on www.Grants.gov and create a username and password. Applicants must use the organization's DUNS number to complete this step. Additional information about the registration process is available at: https://www.grants.gov/web/grants/applicants/organization-registration.html.

d. Acquire Authorization for Your AOR From the E-Business Point of Contact (E-Biz POC)

The E-Biz POC at the applicant's organization must respond to the registration email from Grants.gov and login at www.Grants.gov to authorize the applicant as the AOR. Please note there can be more than one AOR for an organization.

4. Submission Dates and Times

Applicants must submit complete applications in their entirety to www.Grants.gov no later than 5:00 p.m. ET, August 10, 2020. Applicants will receive a system-generated acknowledgement of receipt. FRA reviews www.Grants.gov information on dates/times of applications submitted to determine timeliness of submissions. Late applications will be neither reviewed nor considered. Delayed registration is not an acceptable reason for late submission. Applicants are strongly encouraged to apply early to ensure that all materials are received before this deadline.

To ensure a fair competition of limited discretionary funds, the following conditions are not valid reasons to permit late submissions: (1) Failure to complete the registration process before the deadline; (2) failure to follow Grants.gov instructions on how to register and apply as posted on its website; (3) failure to follow all instructions in this NOFO; and (4) technical issues experienced with the applicant's computer or information technology environment.

5. Intergovernmental Review

Executive Order 12372 requires applicants from State and local units of government or other organizations providing services within a State to submit a copy of the application to the State Single Point of Contact (SPOC), if one exists, and if this program has been selected for review by the State. Applicants may contact their State SPOC to determine if the program has been selected for State review. As of October 1, 2018, Intergovernmental Review was not required for this program.

6. Funding Restrictions

Consistent with 2 CFR 200.458, FRA will only approve pre-award costs if such costs are incurred pursuant to the negotiation and in anticipation of the grant agreement and if such costs are necessary for efficient and timely performance of the scope of work. Under 2 CFR 200.458, grantees must seek written approval from the FRA for pre-award activities to be eligible for reimbursement under the grant. Activities initiated prior to the execution of a grant or without written approval may not be eligible for reimbursement or included as a grantee's matching contribution. Further, funding under this NOFO may not be used for costs that are included as a cost or used to meet cost sharing or matching requirements of any other Federally financed project or program. Cost sharing or matching may be used only for authorized Federal award purposes. Indirect costs will not be reimbursed under this grant program.

7. Other Submission Requirements

For any supporting application materials that an applicant cannot submit via Grants.gov, an applicant may submit an original and two (2) copies to Matthew Lorah, Office of the Chief Financial Officer, Federal Railroad Administration, 1200 New Jersey Avenue SE, Room W36-103, Washington, DC 20590. However, due to delays caused by enhanced screening of mail delivered via the U.S. Postal Service, FRA advises applicants to use other means of conveyance (such as courier service) to assure timely receipt of materials before the application deadline. Additionally, if documents can be obtained online, providing instructions to FRA on how to access files on a referenced website may also be sufficient.

Note: Please use generally accepted formats such as .pdf, .doc, .docx, .xls, .xlsx and .ppt, when uploading attachments. While applicants may embed picture files, such as .jpg, .gif, and .bmp, in document files, applicants should not submit attachments in these formats. Additionally, the following formats will not be accepted: .com, .bat, .exe, .vbs, .cfg, .dat, .db, .dbf, .dll, .ini, .log, .ora, .sys, and .zip.

If an applicant experiences difficulties at any point during this process, please call the Grants.gov Customer Center Hotline at 1-800-518-4726, 24 hours a day, 7 days a week (closed on Federal holidays). For information and instructions on each of these processes, please see instructions at: http://www.grants.gov/web/grants/applicants/apply-for-grants.html. See Section D(1) of this NOFO for information on where applications must be submitted if sent by postal mail, electronic means or hand delivery.

E. Application Review Information

1. Criteria

a. Eligibility, Completeness and Applicant Risk Review

FRA will first screen each application for eligibility (eligibility requirements are outlined in Section C of this notice), completeness (application documentation and submission requirements are outlined in Section D of this notice) and applicant risk.

b. Evaluation Criteria

FRA subject-matter experts will evaluate all eligible and complete applications against the following evaluation criteria:

i. Technical Merit. FRA will evaluate application information for the degree to which:

(E) The application is thorough and responsive to all the requirements outlined in this NOFO.

(F) The tasks outlined in the SOW and described in the project narrative are appropriate to achieve the expected benefits of the proposed project.

(G) The technical qualifications and experience of key personnel proposed to lead and perform the technical efforts, and the qualifications of the primary and supporting organizations to fully and successfully execute the proposed project within the proposed timeframe and budget are demonstrated.

ii. Project Benefits. FRA intends to award funds to projects that achieve the maximum benefits possible. FRA will evaluate the extent to which:

(A) The application contains data and/or supporting information to support the proposed suicide prevention Outreach Campaign. This information could include:

• Data from prior suicide prevention or public safety initiatives which demonstrate the ability to implement a mitigation strategy and document impact.

• Examples of prior collaborative efforts with transportation entities, state/local government, communities, and/or other suicide prevention or safety organizations.

• Examples of prior efforts to address suicide and or mental health awareness.

(B) The applicant describes the expected benefit of the project, namely how the funded project will prevent rail-related suicide including how and to what extent rail trespass suicide is expected to be reduced.

(C) The applicant demonstrates a cooperative relationship with stakeholders (e.g., Railroad Carriers).

c. Selection Criteria

In addition to the eligibility, completeness and applicant risk review and the evaluation criteria outlined in this section, the FRA Administrator (or his designee) will determine the final selection of projects for program funding.

i. FRA will take into account the following key Departmental objectives:

(A) Using innovative approaches to improve safety and expedite project delivery; and,

(B) Holding grant recipients accountable for their performance and achieving specific, measurable outcomes identified by grant applicants.

ii. In determining the allocation of program funds, FRA will also consider geographic diversity, diversity in the size of the systems receiving funding, the applicant's receipt of other competitive awards, projects located in or that support transportation service in a qualified opportunity zone designated pursuant to 26 U.S.C. 1400Z-1.

iii. Consistent with the Department's R.O.U.T.E.S. Initiative, the DOT recognizes that rural transportation networks face unique challenges. To the extent that those challenges are reflected in the applicant's response to the criteria listed in this section, the FRA will consider how the activities proposed in the application will address those challenges, regardless of the geographic location of those activities.

2. Review and Selection Process

FRA will conduct a three-part application review process, as follows:

a. Screening applications for completeness, eligibility and applicant risk (completed by FRA grants staff);

b. Evaluating the technical merit of eligible applications (completed by subject matter experts applying the evaluation criteria); and

c. Selection of projects for award by the FRA Administrator for the Secretary's review and approval.

3. Reporting Matters Related to Integrity and Performance

Before making a Federal award with a total amount of Federal share greater than the simplified acquisition threshold (see 2 CFR 200.88 Simplified Acquisition Threshold), FRA will review and consider any information about the applicant that is in the designated integrity and performance system accessible through SAM (currently the Federal Awardee Performance and Integrity Information System (FAPIIS)). See 41 U.S.C. 2313.

An applicant, at its option, may review information in the designated integrity and performance systems accessible through SAM and comment on any information about itself that a Federal awarding agency previously entered and is currently in the designated integrity and performance system accessible through SAM.

FRA will consider any comments by the applicant, in addition to the other information in the designated integrity and performance system, in making a judgment about the applicant's integrity, business ethics, and record of performance under Federal awards when completing the review of risk posed by applicants as described in 2 CFR 200.205.

F. Federal Award Administration Information

1. Federal Award Notice

FRA will announce applications selected for funding in a press release and on the FRA website after the application review period. FRA will contact applicants with successful applications after announcement with information and instructions about the award process. This notification is not an authorization to begin proposed project activities. FRA requires satisfaction of applicable requirements by the applicant and a formal agreement signed by both the grantee and the FRA, including an approved scope, schedule, and budget, to obligate the grant.

2. Administrative and National Policy Requirements

In connection with any program or activity conducted with or benefiting from funds awarded under this notice, recipients of funds must comply with all applicable requirements of Federal law, including, without limitation, the Constitution of the United States; the conditions of performance, nondiscrimination requirements, and other assurances made applicable to the award of funds in accordance with regulations of the Department of Transportation; and applicable Federal financial assistance and contracting principles promulgated by the Office of Management and Budget. In complying with these requirements, recipients, in particular, must ensure that no concession agreements are denied or other contracting decisions made on the basis of speech or other activities protected by the First Amendment. If the Department determines that a recipient has failed to comply with applicable Federal requirements, the Department may terminate the award of funds and disallow previously incurred costs, requiring the recipient to reimburse any expended award funds.

Examples of administrative and national policy requirements include: 2 CFR part 200; procurement standards at 2 CFR part 200 Subpart D—Procurement Standards, 2 CFR 1207.317 and 2 CFR 200.401; compliance with Federal civil rights laws and regulations; disadvantaged business enterprises; debarment and suspension; drug-free workplace; FRA's and OMB's Assurances and Certifications; Americans with Disabilities Act; safety requirements; NEPA; environmental justice and the Buy American Act, 41 U.S.C. 8301-8305. Unless otherwise stated in statutory or legislative authority, or appropriations language, all financial assistance awards follow the Uniform Administrative Requirements, Cost Principles and Audit Requirements for Federal Awards at 2 CFR part 200 and 2 CFR part 1201.

Grantees must comply with applicable appropriations act requirements and all relevant requirements of 2 CFR part 200. Rights to intangible property under grants awarded under this NOFO are governed in accordance with 2 CFR 200.315. Unless otherwise stated in the Federal award, FRA will not consider non-federal entities as that term is used in 2 CFR part 200 to include for-profit entities. See an example of standard terms and conditions for FRA grant awards at https://www.fra.dot.gov/eLib/details/L05285. This template is subject to revision.

3. Reporting

a. Progress Reporting on Grant Activity

Each applicant selected for a grant will be required to comply with all standard FRA reporting requirements, including quarterly progress reports, quarterly Federal financial reports, and interim and final performance reports, as well as all applicable auditing, monitoring and close out requirements. Reports may be submitted electronically.

b. Additional Reporting

Applicants selected for funding are required to comply with all reporting requirements in the standard terms and conditions for FRA grant awards including 2 CFR 180.335 and 2 CFR 180.350. See an example of standard terms and conditions for FRA grant awards at: https://www.fra.dot.gov/eLib/details/L05285. This template is subject to revision.

c. Performance Reporting

Each applicant selected for funding must report on the project's performance using measures mutually agreed upon by FRA and the grantee to assess progress in achieving strategic goals and objectives. The information should include indicators of success (e.g., anticipated reach of messaging efforts or contacts made by personnel with individuals at risk or reduced suicide incidents.) The FRA maintains the rights to re-publish and use information under this grant for the advancement of safety.

G. Federal Awarding Agency Contacts

For further information regarding this notice and the Railroad Trespassing Suicide Prevention Grant Program, please contact Michail Grizkewitsch, Office of Railroad Safety, Federal Railroad Administration, 1200 New Jersey Avenue SE, Room W33-446, Washington, DC 20590; email: Michail.grizkewitsch@dot.gov; phone: (202) 493-1370. Grant application submission and processing questions should be addressed to Matthew Lorah, Office of the Chief Financial Officer, Federal Railroad Administration, 1200 New Jersey Avenue SE, Room W36-103, Washington, DC 20590; email: matthew.lorah@dot.gov; phone: 202-493-6186.

H. Other Information

All information submitted as part of or in support of any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions.

The DOT regulations implementing the FOIA are found at 49 CFR part 7 Subpart C—Availability of Reasonably Described Records under the Freedom of Information Act which sets forth rules for FRA to make requested materials, information and, and records publicly available under FOIA. Unless prohibited by law and to the extent permitted under the FOIA, contents of application and proposals submitted by successful applicants may be released in response to FOIA requests.

Issued in Washington, DC.
Quintin Kendall,
Deputy Administrator.

[FR Doc. 2020-12443 Filed 6-8-20; 8:45 am]

BILLING CODE 4910-06-P